DEPARTMENT OF ENERGY

Federal Energy Regulatory Commission

[Docket No. EL21-11-000]

Southern Illinois Power Cooperative; Notice of Petition for Limited Waiver

Take notice that on October 20, 2020, pursuant to section 292.402(a) of the Federal Energy Regulatory Commission's (Commission) Rules and Regulations,¹ Southern Illinois Power Cooperative on its own behalf and on behalf of its members Clay Electric Co-operative, Clinton County Electric Cooperative, Monroe County Electric Cooperative and Tri-County Electric Cooperative (Petitioners) filed a petition for limited waiver of certain obligations imposed by 18 CFR Sections 292.303(a) and 292.303(b) that implement section 210 of the Public Utility Regulatory Policies Act of 1978, as amended (PURPA),² all as more fully explained in the petition.

¹ 18 CFR 292.402.

² 16 U.S.C. 824a-3.

Any person desiring to intervene or to protest in the above proceeding must file in accordance with Rules 211 and 214 of the Commission's Rules of Practice and Procedure (18 CFR 385.211 and 385.214) on or before 5:00 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Petitioners. In reference to filings initiating a new proceeding, interventions or protests submitted on or before the comment deadline need not be served on persons other than the Petitioners.

The Commission strongly encourages electronic filings of comments, protests and interventions in lieu of paper using the eFiling link at http://www.ferc.gov. Persons unable to file electronically may mail similar pleadings to the Federal Energy Regulatory Commission, 888 First Street NE, Washington, DC 20426. Hand delivered submissions in docketed proceedings should be delivered to Health and Human Services, 12225 Wilkins Avenue, Rockville, Maryland 20852. To facilitate electronic service, persons with internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE, Washington, DC 20426.

In addition to publishing the full text of this document in the Federal Register, the Commission provides all interested persons an opportunity to view and/or print the contents of this document via the internet through the Commission's Home Page (http://ferc.gov) using the eLibrary link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5:00 p.m. Eastern Time on November 9, 2020.

Dated: October 21, 2020
Kimberly D. Bose,
Secretary.

[FR Doc. 2020-23727 Filed 10-26-20; 8:45 am]

BILLING CODE 6717-01-P